DEPARTMENT OF AGRICULTURE

Animal and Plant Health Inspection Service

[Docket No. 02-088-6]

RIN 0579-AB47

Agency Information Collection Activities; OMB Approval Received

AGENCY: Animal and Plant Health Inspection Service, USDA.

ACTION: Notice.

SUMMARY: In accordance with the Paperwork Reduction Act, this notice announces the Office of Management and Budget's approval of a collection of information contained in the Animal and Plant Health Inspection Service's final rule regarding the possession, use, and transfer of select agents and toxins.

FOR FURTHER INFORMATION CONTACT: Mrs. Celeste Sickles, APHIS' Information Collection Coordinator, MRPBS, APHIS, 4700 River Road Unit 123, Riverdale, MD 20737-1238; (301) 734-7477.

SUPPLEMENTARY INFORMATION:

Background

In an interim rule published in the Federal Register on December 13, 2002 (67 FR 76908-76938, Docket No. 02-088-1) and effective on February 11, 2003, the Animal and Plant Health Inspection Service (APHIS) established regulations in 7 CFR part 331 and 9 CFR part 121 governing the possession, use, and transfer of biological agents and toxins that have been determined to have the potential to pose a severe threat to public health and safety, to animal health, to plant health, or to animal or plant products (i.e., select agents and toxins).

On March 18, 2005, we published in the Federal Register (70 FR 13242-13292, Docket No. 02-088-4) a final rule that adopts, with changes, the December 2002 interim rule. The final rule includes certain regulatory provisions that differ from those included in the December 2002 interim rule. Some of those provisions involve changes from the information collection requirements set out in the December 2002 interim rule, which were approved by the Office of Management and Budget (OMB) under OMB control number 0579-0213.

In accordance with section 3507(j) of the Paperwork Reduction Act of 1995 (44 U.S.C. 3501 et. seq.), the information collection and recordkeeping requirements included in the final rule were submitted for emergency approval to OMB. OMB approved the collection of information requirements with respect to the final rule under OMB control number 0579-0213 (expires October 31, 2005).

Done in Washington, DC, this 22nd day of June 2005.
Elizabeth E. Gaston,
Acting Administrator, Animal and Plant Health Inspection Service.

[FR Doc. E5-3351 Filed 6-27-05; 8:45 am]

BILLING CODE 3410-34-P